DEPARTMENT OF HOMELAND SECURITY

Coast Guard

[Docket No. USCG-2016-0437]

Update to Alternative Planning Criteria (APC) National Guidelines

AGENCY: Coast Guard, OHS.

ACTION: Notice of availability; request for comments.

SUMMARY: The Coast Guard announces the availability of a draft update to the Alternative Planning Criteria (APC) National Guidelines. The APC Guidelines provide the maritime industry with updated information on the development and submission of an APC request made pursuant to existing regulations. In addition to providing guidance to vessel owners and operators on developing APC requests, the APC Guidelines will also facilitate consistency in the review of APC requests by Coast Guard personnel. This notice solicits public comment on the procedures contained in the draft update to the APC Guidelines.

DATES: Comments must reach the USCG by August 25, 2016.

ADDRESSES: To view the APC Guidelines as well as documents mentioned in this notice, go to http://www.regulations.gov, type “USCG-2016-0437” and click “Search.” Then click the “Open Docket Folder.”

FOR FURTHER INFORMATION CONTACT:

For USCG: CDR Scott Stoermer, Office of Marine Environmental Response Policy, 202-372-2234.

SUPPLEMENTARY INFORMATION:

I. Public Participation and Request for Comments

The USCG encourages participation in updating the APC Guidelines by submitting comments and related materials. All comments received will be posted without change to http://www.regulations.gov and will include any personal information provided.

Submitting comments: If you submit a comment, please include the docket number (USCG-2016-0437), indicate the specific section of the APC Guidelines to which each comment applies, and provide a reason for each suggestion or recommendation. You may submit your comments and material online or by fax, mail, or hand delivery, but please use only one of these means. We recommend that you include your name, a mailing address, an email address and/or a phone number in the body of your document to facilitate follow-up contact if we have questions regarding your submission.

To submit your comment online, go to http://www.regulations.gov, type “USCG-2016-0437” in the search box, and click “Search.” Then click “Comment Now!” on the appropriate line. If you submit your comments by mail or hand delivery, submit them in an unbound format, no larger than 8½ by 11 inches, suitable for copying and electronic filing. If you submit comments by mail and would like to know that they reached the DHS Facility, please enclose a stamped, self-addressed postcard or envelope. We will consider all comments and material received during the comment period.

Viewing comments and documents: To view comments as well as documents mentioned in this notice as being available in the docket, go to http://www.regulations.gov, type “USCG-2016-0437” and click “Search.” Then click the “Open Docket Folder.”

Privacy Act: Anyone can search the electronic material submitted into any of our dockets by the name of the individual submitting the comment (or signing the comment, if submitted on behalf of an association, business, labor union, etc.). You may review a Privacy Act and system of records notice regarding our public dockets in the January 17, 2008, issue of the Federal Register (73 FR 3316).

II. Abbreviations

APC Alternative Planning Criteria

CFR Code of Federal Regulations

017 District 17

FR Federal Register

MSIB Marine Safety Information Bulletin

NTV Nontank Vessel

OPA Oil Pollution Act of 1990

USCG U.S. Coast Guard

VOO Vessel of Opportunity

VRP Vessel Response Plan

III. Background

Under 33 CFR 155.1015 and 155.5015, vessel response plans (VRPs) are required to cover all navigable waters of the U.S. in which a vessel operates. Several areas under U.S. jurisdiction do not have sufficient resources to meet the national planning criteria prescribed under 33 CFR part 155, Appendix B. In remote areas where typical response resources are not available, or the available commercial resources do not meet the national planning criteria, a vessel owner or operator may request that the Coast Guard accept an Alternative Planning Criteria (APC).

In August 2009, the Coast Guard published CG-543 Policy Letter 09-02, “Industry Guidelines for Requesting Alternate Planning Criteria Approval, One Time Waivers and Interim Operating Authorization.” The purpose of Policy Letter 09-02, was to provide guidance to the maritime industry in applying for an APC pursuant to 33 CFR 155.1065(f).

In September 2013, the Coast Guard published regulations (78 FR 60124) requiring NTVs over 400 gross tons to submit VRPs, which made the national planning criteria in 33 CFR part 155 applicable to thousands of additional vessels across the U.S., including geographic areas with limited commercially available response resources. Over time, it became apparent that additional guidance would be useful in addressing compliance issues that had developed from the promulgation of the nontank vessel (NTV) Final Rule.

In 2015, Coast Guard Dl 7 published a draft Marine Safety Information Bulletin (MSIB) that provided guidance for APC submissions and expectations within Alaskan waters, with a focus on NTV traffic. Dl 7 received a multitude of comments from various sectors of the maritime industry on the draft MSIB. By this time, the Coast Guard determined it would be best to update the national APC guidance rather than singularly focusing on APC guidelines specific to Alaska. The comments received on Dl 7's MSIB were strongly considered by the Coast Guard during the development of the revised APC national guidance now being published for public comment.

IV. Public Comment of APC Guidelines

The draft APC Guidelines may be amended by the Coast Guard, as appropriate, based upon public comment on this Federal Register notice.

This notice is issued under the authority of 5 U.S.C. 552 (a).

Dated: May 23, 2016.
J.B. Loring,
Captain, U.S. Coast Guard, Chief, Office of Marine Environmental Response Policy.

[FR Doc. 2016-12624 Filed 5-26-16; 8:45 am]

BILLING CODE 9110-04-P